DEPARTMENT OF THE INTERIOR

Fish and Wildlife Service

Notice of Formal Establishment of the Rocky Mountain Arsenal National Wildlife Refuge, Adams County, CO

AGENCY: Fish and Wildlife Service, Interior.

ACTION: Notice.

SUMMARY: In accordance with the provisions of the Rocky Mountain Arsenal National Wildlife Refuge Act of 1992 (Pub. L. 102-402, 106 Stat. 1961, hereinafter referred to as the Refuge Act), the Secretary of the Army has transferred primary administrative jurisdiction over approximately 4,929.85 acres of real property at Rocky Mountain Arsenal (RMA), Adams County, Colorado, to the Secretary of the Interior. The transfer of jurisdiction over this property occurred on April 2, 2004.

Pursuant to section 4(a) of the Refuge Act, the Secretary of the Interior hereby announces the formal establishment of the Rocky Mountain Arsenal National Wildlife Refuge. The refuge will be managed by the U.S. Fish and Wildlife Service (Service) as a unit of the National Wildlife Refuge System. The refuge will be managed in accordance with the Refuge Act, and the National Wildlife Refuge System Administration Act of 1966, as amended (16 U.S.C. 668dd et seq.).

DATES: This action will be effective on April 2, 2004.

FOR FURTHER INFORMATION CONTACT: Dean Rundle, Refuge Manager, Bldg. 111 RMA, Commerce City, Colorado 80022, or at telephone number (303) 289-0350.

SUPPLEMENTARY INFORMATION: The Refuge Act mandates that following environmental remediation of RMA, under the Comprehensive Environmental Response, Compensation and Liability Act of 1980, and other applicable provisions of law, the Secretary of the Army will transfer jurisdiction over the real property comprising the Arsenal to the Secretary of the Interior for the formal establishment of the Rocky Mountain Arsenal National Wildlife Refuge.

Environmental remediation of the Rocky Mountain Arsenal National Priorities List (RMA/NPL) Site has been ongoing, pursuant to a Record of Decision signed in 1996 by the Army, U.S. Environmental Protection Agency (EPA), and the State of Colorado. On January 15, 2004, the Regional Administrator of the EPA published notice(s) in the Federal Register announcing deletion of the Selected Perimeter Area (SPA) and Surface Deletion Area (SDA) from the RMA/NPL Site. On January 27, 2004, the Administrator of EPA, acting through the Regional Administrator of EPA, Region 8, certified to the Secretary of the Army that all response actions required for the SPA and SDA have been completed.

Pursuant to the Refuge Act, portions of the SPA and SDA will be transferred by the Army to local units of government to permit the widening of existing roads. Approximately 4,901.81 acres of the SPA and SDA were available for transfer, for refuge purposes, to the Secretary of the Interior. Additionally, approximately 28.04 acres, known as the “Klein Halo,” was included in an area deleted from the RAM/NPL Site, as the Western Tier Parcel partial deletion, on January 21, 2003, and was also available for transfer to the Secretary of the Interior. Administrative jurisdiction over these approximately 4,929.85 acres was transferred from the Department of the Army to the Department of the Interior on April 2, 2004. This notice is required within 30 days of that transfer by section 4(a) of the Refuge Act.

It is anticipated that as the environmental remediation at RMA proceeds, additional lands may be deleted from the RMA/NPL Site. As those partial deletions are completed and certification of completion of required response actions is made by EPA to the Secretary of the Army, primary administrative jurisdiction of additional lands will be transferred to the Secretary of the Interior. Such transfers will continue until such time as the remediation is complete and the final configuration of the refuge is determined.

Since 1992, and in accordance with section 2(a) of the Refuge Act, Rocky Mountain Arsenal has been managed “as if it were a unit of the National Wildlife Refuge System” under provisions of a Cooperative Agreement between the Army and the Service. The Cooperative Agreement, mandated by the Refuge Act, created an overlay/secondary jurisdiction refuge status for the Rocky Mountain Arsenal with primary jurisdiction remaining with the Army. As such, the real property comprising the Rocky Mountain Arsenal has previously been reported as Real Property Number 1229, with 17,000 acres under secondary jurisdiction, in the “Annual Report of Lands Under Control of the U.S. Fish and Wildlife Service,” by the Service's Division of Realty. The action of this notice is the formal establishment of the Rocky Mountain Arsenal National Wildlife Refuge, under primary jurisdiction of the Department of the Interior, and does not require establishment of a new Real Property Number by the Service's Division of Realty.

Dated: April 6, 2004.
Mike Stempel,
Regional Director, Region 6, Denver, Colorado.

[FR Doc. 04-8990 Filed 4-20-04; 8:45 am]

BILLING CODE 4310-55-P